DEPARTMENT OF COMMERCE

National Oceanic and Atmospheric Administration

[RTID 0648-XC769]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a three-day in-person meeting of its Standing, Reef Fish, Shrimp, Socioeconomic, and Ecosystem Scientific and Statistical Committees (SSC).

DATES: The meeting will be held Tuesday, March 7 through Thursday, March 9, 2023, from 8:30 a.m. to 5:30 p.m., EST, daily.

ADDRESSES: The meeting will take place at the Gulf Council office. Registration information will be available on the Council's website by visiting www.gulfcouncil.org and clicking on the “meeting tab”.

Council address: Gulf of Mexico Fishery Management Council, 4107 W Spruce Street, Suite 200, Tampa, FL 33607; telephone: (813) 348-1630.

FOR FURTHER INFORMATION CONTACT: Mr. Ryan Rindone, Lead Fishery Biologist, Gulf of Mexico Fishery Management Council; ryan.rindone@gulfcouncil.org, telephone: (813) 348-1630.

SUPPLEMENTARY INFORMATION:

Tuesday, March 7, 2023; 8:30 a.m.-5:30 p.m., EST

The meeting will begin with Introductions and Adoption of Agenda, Approval of Verbatim Minutes and Meeting Summary from the January 10-12, 2023, meeting, and a review of the Scope of Work. The Committees will select an SSC Representative for the April 3-6, 2023, Gulf Council meeting in Gulfport, MS.

Following, the Committees will review presentations for Shrimp Effort Estimation, New Shrimp Assessment Models and Royal Red Shrimp Landings, including other background materials for SSC discussion. The Committees will review SEDAR 87 Gulf of Mexico Shrimp Terms of Reference (TORs), Schedule, Participants Approval; SEDAR Schedule and Planned Interim Analyses; Review of Red Grouper Operational Assessment (OA) TORs; and, Solicitation of Volunteers for SEDAR 74 Red Snapper Research Track Review Workshop. Public comment will be heard at the end of the day.

Wednesday, March 8, 2023; 8:30 a.m.-5:30 p.m., EST

The Committees will continue review and discuss any topics from the previous day if time is needed. The Committees will discuss a presentation and model documentation on Economics of Allocation; a presentation on Scamp and Yellowmouth Grouper Updated Projections within the Shallow-water Grouper Complex; a presentation and published research on Incorporating Socioeconomic Data into Stock Assessments and its Effect on Status Criteria Determination; a presentation and published research on Decision Points for Evaluating Proxies for Maximum Sustainable Yield; and will receive public comment at the end of the day, if any.

Thursday, March 9, 2023; 8:30 a.m.-5:30 p.m., EST

The Committees will review and discuss Explicit Temporal Modeling of Recruitment Residuals from Stock Synthesis, Evaluating Bottom Fishing Seasonal Closures in the Recreational Fishery, and Greater Amberjack Discard Mortality, along with presentations and background materials.

The Committees will receive an update on the Gulf of Mexico Great Amberjack Count, review an Examination of an Alternative Allocation Approach, and Wenchman and Mid-water Snapper Historical Landings, along with presentation and background materials. The Committees will receive public comment before addressing any items under Other Business.

—Meeting Adjourns

The meeting will also be broadcast via webinar. You may register for the webinar by visiting www.gulfcouncil.org and clicking on the SSC meeting on the calendar.

The Agenda is subject to change, and the latest version along with other meeting materials will be posted on www.gulfcouncil.org as they become available.

Although other non-emergency issues not on the agenda may come before the Scientific and Statistical Committees for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take-action to address the emergency.

Special Accommodations

These meetings are physically accessible to people with disabilities. Requests for sign language interpretation or other auxiliary aid should be directed to Kathy Pereira, (813) 348-1630, at least 5 days prior to the meeting date.

Authority: 16 U.S.C. 1801 et seq.

Dated: February 9, 2023.
Rey Israel Marquez,
Acting Deputy Director, Office of Sustainable Fisheries, National Marine Fisheries Service.

[FR Doc. 2023-03145 Filed 2-14-23; 8:45 am]

BILLING CODE 3510-22-P